DEPARTMENT OF HEALTH AND HUMAN SERVICES

National Institutes of Health

National Center for Complementary and Alternative Medicine; Notice of Closed Meeting

Pursuant to section 10(d) of the Federal Advisory Committee Act, as amended (5 U.S.C. Appendix 2), notice is hereby given of the following meeting.

The meeting will be closed to the public in accordance with the provisions set forth in sections 552b(c)—(4) and 552b(c)(6), Title 5 U.S.C., as amended. The contract proposals and the discussions could disclose confidential trade secrets or commercial property such as patentable material, and personal information concerning individuals associated with the contract proposals, the disclosure of which would constitute a clearly unwarranted invasion of personal privacy.

Name of Committee: National Center for Complementary & Alternative Medicine Special Emphasis Panel.

Date: March 21, 2000.

Time: 3:30 p.m. to 5 p.m.

Agenda: To review and evaluate contract proposals.

Place: 9000 Rockville Pike, Bldg. 31, Room 5B50, Bethesda, MD 20892 (Telephone Conference Call).

Contact Person: Sheryl K. Brining, National Center for Complementary and Alternative Medicine, National Institutes of Health, 31 Center Drive, Room 5B50, Bethesda, MD 20892-2182, (301) 496-7498, sb44k@nih.gov.

This notice is being published less than 15 days prior to the meeting due to the timing limitations imposed by the review and funding cycle.

Dated: March 9, 2000.
Ann Snouffer,
Acting Director, Office of Federal Advisory Committee Policy.

[FR Doc. 00-6473 Filed 3-15-00; 8:45 am]

BILLING CODE 4140-01-M